NATIONAL ARCHIVES AND RECORDS ADMINISTRATION

[NARA-2026-002]

Advisory Committee on the Records of Congress

AGENCY: National Archives and Records Administration (NARA).

ACTION: Notice of Federal advisory committee meetings.

SUMMARY: We are announcing upcoming meetings of the Advisory Committee on the Records of Congress in accordance with the Federal Advisory Committee Act. The committee advises NARA on the full range of programs, policies, and plans for the Center for Legislative Archives.

DATES: The meetings will be on December 10, 2025, from 10:00 a.m. to 10:30 a.m. (ET) and December 11, 2025, from 2:30 p.m. to 3:00 p.m. (ET).

ADDRESSES: The meeting will be virtual.

FOR FURTHER INFORMATION CONTACT: James Wyatt, National Archives, Center for Legislative Archives, by email at James.Wyatt@nara.gov or by phone at 202-357-5016.

SUPPLEMENTARY INFORMATION: These virtual meetings are open to the public in accordance with the Federal Advisory Committee Act (5 U.S.C. app 2) and implementing regulations.

Meeting Information and Agenda

Wednesday, December 10, 2025, 9:30-11:00 a.m. (ET)

Join link: https://ushr.webex.com/ushr/j.php?MTID=m0de1a1e07d1b7cc2af68e7848ad5dd93

Meeting number: 2826 279 1477.

Meeting password: acrc.

Join by phone: +1-415-527-5035.

Access code: 2826 279 1477.

Agenda

1. Welcome and Opening Remarks of the Chair—Kevin F. McCumber, Clerk of the House

2. Recognition of Co-Chair—Jackie Barber, Secretary of the Senate

3. Approval of the Minutes of the Last Meeting

4. Adjournment

Thursday, December 11, 2025, 2:00-3:30 p.m. (ET)

Join link: https://ushr.webex.com/ushr/j.php?MTID=mfe3548c7a25e4f25b78a35f7b800d92a.

Meeting number: 2822 303 2772.

Meeting password: acrc.

Join by phone: +1-415-527-5035.

Access code: 2822 303 2772.

Agenda

1. Welcome and Opening Remarks of the Chair—Kevin F. McCumber, Clerk of the House

2. Recognition of Co-Chair—Jackie Barber, Secretary of the Senate

3. Approval of the Minutes of the Last Meeting

4. Adjournment

Merrily Harris,
Committee Management Officer.

[FR Doc. 2025-21835 Filed 12-2-25; 8:45 am]

BILLING CODE 7515-01-P